DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison (FEMA Docket No.: B-1124) | Unincorporated areas of Madison County (08-04-4212P) | March 26, 2010; April 2, 2010; Madison County Record | The Honorable Mike Gillespie, Chairman, Madison County Commission, 100 Northside Square, Huntsville, AL 35801 | August 2, 2010 | 010151
Arizona: Yavapai (FEMA Docket No.: B-1124) | Unincorporated areas of Yavapai County (09-09-0953P) | April 14, 2010; April 21, 2010; Prescott Daily Courier | The Honorable Chip Davis, Chairman, Yavapai County Board of Supervisors, 1015 Fair Street, Prescott, AZ 86305 | August 19, 2010 | 040093
California:
Sonoma (FEMA Docket No.: B-1124) | City of Healdsburg (09-09-2125P) | April 14, 2010; April 21, 2010; The Press Democrat | The Honorable Jim Wood, Mayor, City of Healdsburg, 401 Grove Street, Healdsburg, CA 95448 | August 19, 2010 | 060378
Sonoma (FEMA Docket No.: B-1124) | Unincorporated areas of Sonoma County (09-09-2125P) | April 14, 2010; April 21, 2010; The Press Democrat | The Honorable Valerie Brown, Chair, Sonoma County Board of Supervisors, 575 Administration Drive, Santa Rosa, CA 95403 | August 19, 2010 | 060375
Colorado: Arapahoe (FEMA Docket No.: B-1124) | Unincorporated areas of Arapahoe County (10-08-0186P) | April 9, 2010; April 16, 2010; The Denver Post | The Honorable Rod Bockenfeld, Chairman, Arapahoe County Board of Commissioners, 5334 South Prince Street, Littleton, CO 80166 | August 16, 2010 | 080011
Florida:
Monroe (FEMA Docket No.: B-1129) | Unincorporated areas of Monroe County (10-04-1955P) | April 30, 2010; May 7, 2010; Key West Citizen | The Honorable Mario Digennaro, District 4 Commissioner, 9400 Overseas Highway, Suite 210, Marathon, FL 33050 | April 28, 2010 | 125129
Monroe (FEMA Docket No.: B-1129) | Unincorporated areas of Monroe County (10-04-2350P) | April 30, 2010; May 7, 2010; Key West Citizen | The Honorable Mario Digennaro, District 4 Commissioner, 9400 Overseas Highway, Suite 210, Marathon, FL 33050 | April 26, 2010 | 125129
Osceola (FEMA Docket No.: B-1123) | City of St. Cloud (09-04-6066P) | March 25, 2010; April 1, 2010; Osceola News-Gazette | The Honorable Donna Hart, Mayor, City of St. Cloud, 1300 9th Street, St. Cloud, FL 34769 | July 30, 2010 | 120191
Polk (FEMA Docket No.: B-1123) | Unincorporated areas of Polk County (09-04-8238P) | March 31, 2010; April 7, 2010; Polk County Democrat | The Honorable Bob English, Chairman, Polk County Board of Commissioners, P.O. Box 9005, Drawer BC01, Bartow, FL 33831 | August 5, 2010 | 120261
Illinois:
St. Clair (FEMA Docket No.: B-1124) | City of O'Fallon (07-05-2498P) | April 15, 2010; April 22, 2010; O'Fallon Progress | The Honorable Gary L. Graham, Mayor, City of O'Fallon, 255 South Lincoln Avenue, O'Fallon, IL 62269 | August 19, 2010 | 170633
St. Clair (FEMA Docket No.: B-1124) | Unincorporated areas of St. Clair County (07-05-2498P) | April 15, 2010; April 22, 2010; O'Fallon Progress | The Honorable Mark Kern, Chairman, St. Clair County Board, 10 Public Square, 5th Floor, Belleville, IL 62220 | August 19, 2010 | 170616
Will (FEMA Docket No.: B-1123) | Village of Mokena (09-05-4682P) | March 25, 2010; April 1, 2010; Mokena Messenger | The Honorable Joseph W. Werner, Mayor, Village of Mokena, 11004 Carpenter Street, Mokena, IL 60448 | July 30, 2010 | 170705
Will (FEMA Docket No.: B-1123) | Village of Romeoville (09-05-4629P) | March 25, 2010; April 1, 2010; The Herald News | The Honorable John Noak, Mayor, Village of Romeoville, 13 Montrose Drive, Romeoville, IL 60446 | July 30, 2010 | 170711
Will (FEMA Docket No.: B-1123) | Unincorporated areas of Will County (09-05-4629P) | March 25, 2010; April 1, 2010; The Herald News | The Honorable Lawrence M. Walsh, Chairman, Will County Board of Supervisors, 302 North Chicago Street, Joliet, IL 60432 | July 30, 2010 | 170695
Nevada:
Washoe (FEMA Docket No.: B-1124) | City of Reno (09-09-3152P) | April 6, 2010; April 13, 2010; Reno Gazette-Journal | The Honorable Robert Cashell, Mayor, City of Reno, P.O. Box 1900, Reno, NV 89505 | August 11, 2010 | 320020
Washoe (FEMA Docket No.: B-1124) | Unincorporated areas of Washoe County | April 6, 2010; April 13, 2010; Reno Gazette-Journal | The Honorable David Humke, Chairman, Washoe County Board of Commissioners, P.O. Box 11130, Reno, NV 89520 | August 11, 2010 | 320019
North Carolina:
Iredell (FEMA Docket No.: B-1124) | Town of Mooresville (09-04-7593P) | April 2, 2010; April 9, 2010; Mooresville Tribune and The Charlotte Observer | The Honorable Bill Thunberg, Mayor, Town of Mooresville, P.O. Box 878, Mooresville, NC 28115 | August 9, 2010 | 370314
Richmond (FEMA Docket No.: B-1124) | Unincorporated areas of Richmond County (09-04-8322P) | April 7, 2010; April 14, 2010; Richmond County Daily Journal | Mr. Kenneth R. Robinette, Chairman, Richmond County Board of Commissioners, P.O. Box 504, Rockingham, NC 28380 | August 12, 2010 | 370348
Stanly (FEMA Docket No.: B-1124) | Unincorporated areas of Stanly County (09-04-5837P) | March 25, 2010; April 1, 2010; Stanly News & Press | Mr. Tony M. Dennis, Stanly County Chairman, 1000 North 1st Street, Suite 13-B, Albemarle, NC 28001 | July 30, 2010 | 370361
Oklahoma: Tulsa (FEMA Docket No.: B-1124) | City of Sand Springs (10-06-0758P) | April 14, 2010; April 21, 2010; Sand Springs Leader | The Honorable Bob Walker, Mayor, City of Sand Springs, P.O. Box 338, Sand Springs, OK 74063 | March 31, 2010 | 400211
Tennessee: Lincoln (FEMA Docket No.: B-1124) | Unincorporated areas of Lincoln County (08-04-4212P) | March 24, 2010; March 31, 2010; The Elk Valley Times | The Honorable Peggy G. Bevels, Mayor, Lincoln County, 112 Main Avenue South, Room 101, Fayetteville, TN 37334 | August 2, 2010 | 470104
Texas:
Bexar (FEMA Docket No.: B-1123) | City of San Antonio (08-06-2113P) | March 31, 2010; April 7, 2010; Daily Commercial Recorder | The Honorable Julian Castro, Mayor, City of San Antonio, P.O. Box 839966, San Antonio, TX 78283 | April 22, 2010 | 480045
Bexar (FEMA Docket No.: B-1123) | City of San Antonio (09-06-2177P) | March 19, 2010; March 26, 2010; Daily Commercial Recorder | The Honorable Julian Castro, Mayor, City of San Antonio, P.O. Box 839966, San Antonio, TX 78283 | April 7, 2010 | 480045
Utah: Weber (FEMA Docket No.: B-1123) | City of Ogden (09-08-0418P) | March 19, 2010; March 26, 2010; Ogden Standard-Examiner | The Honorable Matthew R. Godfrey, Mayor, City of Ogden, 2549 Washington Boulevard, Suite 910, Ogden, UT 84401 | July 26, 2010 | 490189

(Catalog of Federal Domestic Assistance No. 97.022, “Flood Insurance.”)

Sandra K. Knight,
Deputy Federal Insurance and Mitigation Administrator, Mitigation, Department of Homeland Security, Federal Emergency Management Agency.

[FR Doc. 2010-32707 Filed 12-28-10; 8:45 am]

BILLING CODE 9110-12-P